OFFICE OF SCIENCE AND TECHNOLOGY POLICY

National Nanotechnology Initiative Meetings

ACTION: Notice of public meetings.

SUMMARY: The National Nanotechnology Coordination Office (NNCO), on behalf of the Nanoscale Science, Engineering, and Technology (NSET) Subcommittee of the Committee on Technology, National Science and Technology Council (NSTC), will facilitate stakeholder discussion of targeted nanotechnology topics through workshops, webinars, and Community of Interest meetings between the publication date of this Notice and December 31, 2020.

DATES: The NNCO will hold one or more workshops, webinars, networks, and Community of Interest teleconferences between the publication date of this Notice and December 31, 2020.

ADDRESSES: Attendance information, including addresses, will be posted on nano.gov. For information about upcoming workshops and webinars, please visit https://www.nano.gov/events/meetings-workshops and https://www.nano.gov/PublicWebinars. For more information on the Communities of Interest, please visit https://www.nano.gov/Communities.

FOR FURTHER INFORMATION CONTACT: For information regarding this Notice, please contact Patrice Pages at info@nnco.nano.gov or 202-517-1050.

SUPPLEMENTARY INFORMATION: These public meetings address the charge in the 21st Century Nanotechnology Research and Development Act for NNCO to provide “for public input and outreach . . . by the convening of regular and ongoing public discussions”. Workshop and webinar topics may include strategic planning; technical subjects; environmental, health, and safety issues related to nanomaterials (nanoEHS); business case studies; or other areas of potential interest to the nanotechnology community. Areas of focus for the Communities of Interest may include research on nanoEHS; nanotechnology education; nanomedicine; nanomanufacturing; or other areas of potential interest to the nanotechnology community. The Communities of Interest are not intended to provide any government agency with advice or recommendations; such action is outside of their purview.

Registration: Due to space limitations, pre-registration for workshops is required. Workshop registration is on a first-come, first-served basis, and will be capped as space limitations dictate. Registration information will be available at https://www.nano.gov/events/meetings-workshops. Registration for the webinars will open approximately two weeks prior to each event and will be capped at 500 participants or as space limitations dictate. Individuals planning to attend a webinar can find registration information at https://www.nano.gov/PublicWebinars. Written notices of participation for workshops, webinars, or Communities of Interest should be sent by email to info@nnco.nano.gov.

Meeting Accommodations: Individuals requiring special accommodation to access any of these public events should contact info@nnco.nano.gov at least ten business days prior to the meeting so that appropriate arrangements can be made.

Dated: January 22, 2020.
Sean Bonyun,
Chief of Staff, White House Office of Science and Technology Policy.

[FR Doc. 2020-01302 Filed 1-24-20; 8:45 am]

BILLING CODE 3270-F0-P